FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted April 1, 2018 thru April 30, 2018
04/02/2018
20180989 | G | Webster Capital II-A, L.P.; Richard Taite; Webster Capital II-A, L.P.
20180990 | G | L Catterton VIII, L.P.; One Rock Capital Partners, LP; L Catterton VIII, L.P.
20180991 | G | U.S. Silica Holdings, Inc.; Golden Gate Capital Opportunity Fund, L.P.; U.S. Silica Holdings, Inc.
04/03/2018
20180902 | G | Filtration Group Equity LLC; Summer Street Capital III, L.P.; Filtration Group Equity LLC.
20180925 | G | Jericho Capital Partners L.P.; Dell Technologies Inc.; Jericho Capital Partners L.P.
20180928 | G | Splunk Inc.; Phantom Cyber Corporation; Splunk Inc.
04/04/2018
20180966 | G | Clayton Dubilier & Rice Fund X, L.P.; Greenbriar Equity Fund II, L.P.; Clayton Dubilier & Rice Fund X, L.P.
20180974 | G | MIP Cleco Partners L.P.; NRG Energy, Inc.; MIP Cleco Partners L.P.
20180980 | G | The Spruce House Partnership LP; GTT Communications, Inc.; The Spruce House Partnership LP.
20180992 | G | Lumentum Holdings Inc.; Oclaro, Inc.; Lumentum Holdings Inc.
20181002 | G | Future Industry Investment Fund; Ningbo Joyson Electronic Corporation; Future Industry Investment Fund.
04/06/2018
20180933 | G | Danaher Corporation; Integrated DNA Technologies, Inc.; Danaher Corporation.
20180996 | G | Great Dane Holding, LLC; CommerceHub, Inc.; Great Dane Holding, LLC.
20181007 | G | OEP VI Feeder (Cayman), L.P.; Gibson Energy Inc.; OEP VI Feeder (Cayman), L.P.
20181013 | G | CSP Alpha Investments LP; StarTek, Inc.; CSP Alpha Investments LP.
20181014 | G | PAG Asia II LP; Ningbo Joyson Electronic Corporation; PAG Asia II LP.
20181017 | G | Dr. Patrick Soon-Shiong; Erick Thohir; Dr. Patrick Soon-Shiong.
20181019 | G | Hamilton Infrastructure Trust; ArcLight Energy Partners Fund VI, L.P.; Hamilton Infrastructure Trust.
20181020 | G | Authentic Brands Group LLC; VF Corporation; Authentic Brands Group LLC.
20181021 | G | Platinum Equity Capital Partners IV. L.P.; Johnson & Johnson; Platinum Equity Capital Partners IV. L.P.
20181023 | G | K-Z Evergreen, LLC; AmTrust Financial Services, Inc.; K-Z Evergreen, LLC.
20181026 | G | Magna International Inc.; Lyft, Inc.; Magna International Inc.
20181029 | G | WME Entertainment Parent, LLC; NeuLion, Inc.; WME Entertainment Parent, LLC.
20181031 | G | General Atlantic Partners AIV-1 B, L.P.; New Holdco LLC; General Atlantic Partners AIV-1 B, L.P.
04/09/2018
20180971 | G | Toray Industries, Inc.; Tennessee Investment Holding B.V.; Toray Industries, Inc.
20181027 | G | New Enterprise Associates 15, L.P.; Reltio, Inc.; New Enterprise Associates 15, L.P.
04/11/2018
20180926 | G | FUJIFILM Holdings Corporation; Xerox Corporation; FUJIFILM Holdings Corporation.
20181022 | G | ProAmpac PG Holdings LLC; Saw Mill Capital Partners, LP; ProAmpac PG Holdings LLC.
04/13/2018
20180896 | G | TopBuild Corp.; Trilantic Capital Partners V (North America) L.P.; TopBuild Corp.
04/16/2018
20180994 | G | Elliott Associates, L.P.; Travelport Worldwide Limited; Elliott Associates, L.P.
20181044 | G | Francisco Partners V, L.P.; Thoma Bravo Discover Fund, L.P.; Francisco Partners V, L.P.
20181045 | G | Pandora Media, Inc.; AdsWizz, S.A.; Pandora Media, Inc.
20181046 | G | Casablanca Holdings L.P.; William E. La Macchia; Casablanca Holdings L.P.
20181047 | G | New Media Investment Group Inc.; Cox Family Voting Trust u/a/d 7/26/13; New Media Investment Group Inc.
20181056 | G | NRG Energy, Inc.; BlueGreen Holding, LLC; NRG Energy, Inc.
20181057 | G | Tallgrass Energy GP, LP; Tallgrass Equity, LLC; Tallgrass Energy GP, LP.
20181058 | G | White Mountains Insurance Group, Ltd.; ABRY Partners VIII, L.P.; White Mountains Insurance Group, Ltd.
20181062 | G | Tailwind Capital Partners III, L.P.; Frazier Healthcare VI, L.P.; Tailwind Capital Partners III, L.P.
20181063 | G | Grupo Comercial Chedraui, S.A.B. de C.V.; AEP III Fiesta AIV, L.P.; Grupo Comercial Chedraui, S.A.B. de C.V.
20181066 | G | Hon Hai Precision Industry Co., Ltd.; Fifth Street MB Partners, LLC; Hon Hai Precision Industry Co., Ltd.
20181067 | G | Pentland Group plc; The Finish Line, Inc.; Pentland Group plc.
04/18/2018
20181025 | G | KKR 2006 Fund (Overseas), Limited Partnership; Wengen Alberta, Limited Partnership; KKR 2006 Fund (Overseas), Limited Partnership.
20181034 | G | Meritage Co-Investors LLC SERIES 3; Michael Bjerke; Meritage Co-Investors LLC SERIES 3.
20181054 | G | Bain Capital Double Impact Fund, L.P.; TVG-I-E PFE Holdings LLC; Bain Capital Double Impact Fund, L.P.
04/19/2018
20180987 | G | AMP Capital Global Infrastructure Fund II B LP; Everstream Holding Company LLC; AMP Capital Global Infrastructure Fund II B LP.
20180998 | G | Elliott International Limited; Prosperity Life Insurance Group, LLC; Elliott International Limited.
20181004 | G | Ocwen Financial Corporation; PHH Corporation; Ocwen Financial Corporation.
20181039 | G | Quad-C Partners IX, L.P.; At World Properties, LLC; Quad-C Partners IX, L.P.
04/20/2018
20180899 | G | KBR, Inc.; Kamal S. Ghaffarian; KBR, Inc.
20181064 | G | Ares Energy Investors Fund V, L.P.; Conti Family 2017 Irrevocable Dynasty Trust; Ares Energy Investors Fund V, L.P.
20181065 | G | NN, Inc.; Paragon Equity, LLC; NN, Inc.
20181068 | G | Remi Marcoux; Sun Capital Partners V, L.P.; Remi Marcoux.
20181070 | G | FUJIFILM Holdings Corporation; JXTG Holdings, Inc.; FUJIFILM Holdings Corporation.
20181071 | G | USI Advantage Corp.; KeyCorp; USI Advantage Corp.
20181075 | G | Compagnie Generale des Establissements Michelin; Fenner PLC; Compagnie Generale des Establissements Michelin.
20181080 | G | Stonepeak Infrastructure Fund II (AIV) LP; GenOn Energy, Inc.; Stonepeak Infrastructure Fund II (AIV) LP.
20181081 | G | Stonepeak Infrastructure Fund II (AIV) LP; NRG Energy, Inc.; Stonepeak Infrastructure Fund II (AIV) LP.
20181082 | G | North Haven Infrastructure Partners II AIV-I L.P.; Old Ironside Energy Fund II-A, LP; North Haven Infrastructure Partners II AIV-I L.P.
20181088 | G | TA XI NS-A Feeder, L.P.; FundChoice Investment Holdings, LLC; TA XI NS-A Feeder, L.P.
04/23/2018
20181087 | G | Hecla Mining Company; Klondex Mines Ltd.; Hecla Mining Company.
20181093 | G | Energy Trading Innovations LLC; Alinda Infrastructure Parallel Fund I, L.P.; Energy Trading Innovations LLC.
04/24/2018
20181009 | G | Marlin Equity V, L.P.; RedBrick Health Corporation; Marlin Equity V, L.P.
20181052 | G | The Veritas Capital Fund VI, L.P.; General Electric Company; The Veritas Capital Fund VI, L.P.
04/25/2018
20181042 | G | Brynwood Partners VII L.P.; SunTx Capital Partners II, L.P.; Brynwood Partners VII L.P.
20181095 | G | BW Homecare Holdings LLC; Palladium Equity Partners III, L.P.; BW Homecare Holdings LLC.
04/26/2018
20171676 | G | Martin Marietta Materials, Inc.; Lindsay Goldberg III CR AIV L.P.; Martin Marietta Materials, Inc.
04/27/2018
20180162 | G | Amneal Holdings, LLC; Impax Laboratories, Inc.; Amneal Holdings, LLC.
20181051 | G | Riccardo Braglia; Johnson & Johnson; Riccardo Braglia.
20181100 | G | Unilever PLC; Unilever N.V.; Unilever PLC.
20181107 | G | Concho Resources Inc.; RSP Permian, Inc.; Concho Resources Inc.
20181109 | G | Vista Foundation Fund III, L.P.; LogicMonitor, Inc.; Vista Foundation Fund III, L.P.
20181111 | G | MGM Resorts International; Milstein Capital Partners LLC; MGM Resorts International.
20181113 | G | Christopher Hutter; Donald R. Simon; Christopher Hutter.
20181114 | G | Paul D. Douglass; Donald R. Simon; Paul D. Douglass.
20181116 | G | SJW Group; Connecticut Water Service, Inc.; SJW Group.
20181118 | G | Park Lawn Corporation; Signature Funeral and Cemetery Investments LLC; Park Lawn Corporation.
20181119 | G | Altaris Health Partners IV, L.P.; Analogic Corporation; Altaris Health Partners IV, L.P.
20181125 | G | TA NIPA Parent, LLC; Gerald and Marilyn Burke; TA NIPA Parent, LLC.
20181127 | G | Partners Group Access 906 L.P.; H-Food Holdings, LLC; Partners Group Access 906 L.P.
20181129 | G | Blackstone Capital Partners VII L.P.; Doreen Granpeesheh; Blackstone Capital Partners VII L.P.
04/30/2018
20181101 | G | Osaka Gas Co., Ltd.; Rockland Power Partners II, LP; Osaka Gas Co., Ltd.
20181124 | G | Adventist Health System Sunbelt Healthcare Corporation; Community Health System, Inc.; Adventist Health System Sunbelt Healthcare Corporation.
20181130 | G | Munchener Ruckversicherungs-Gesellschaft AG in Munchen; IIF US Holding 2 LP; Munchener Ruckversicherungs-Gesellschaft AG in Munchen.

FOR FURTHER INFORMATION CONTACT:

Theresa Kingsberry, Program Support Specialist, Federal Trade Commission Premerger Notification Office, Bureau of Competition, Room CC-5301, Washington, DC 20024 (202) 326-3100.

By direction of the Commission.
Donald S. Clark,
Secretary.

[FR Doc. 2018-13189 Filed 6-19-18; 8:45 am]

BILLING CODE 6750-01-P